DEPARTMENT OF JUSTICE

Parole Commission

Sunshine Act Meeting

DATE AND TIME: Thursday, May 15, at 1 p.m.

PLACE: U.S. Parole Commission, 90 K Street NE, 3rd Floor, Washington, DC.

STATUS: Open.

MATTERS TO BE CONSIDERED:

1. Approval of November 14, 2024, Meeting Minutes.

2. Verbal Updates since the November Meeting from the Acting Chairman, Commissioner, Acting Chief of Staff, Acting Case Operations Administrator, Case Services Administrator, and General Counsel.

CONTACT PERSON FOR MORE INFORMATION: Jacquelyn Graham, Staff Assistant to the Chairman, U.S. Parole Commission, 90 K Street NE, 3rd Floor, Washington, DC 20530, (202) 346-7010.

Dated: May 8, 2025.
Patricia K. Cushwa,
Chairman (Acting), U.S. Parole Commission.

[FR Doc. 2025-08378 Filed 5-8-25; 4:15 pm]

BILLING CODE 4410-31-P